DEPARTMENT OF THE TREASURY

Presidential Determination Concerning Waiver of Section 901(j) of the Internal Revenue Code With Respect to Libya

AGENCY: Departmental Offices, Treasury.

ACTION: Notice.

DATES: Presidential Determination 2005-12 was issued December 10, 2004.

SUMMARY: On December 10, 2004, the President issued Presidential Determination 2005-12. Presidential Determination 2005-12 waives the application of section 901(j)(1) of the Internal Revenue Code with respect to Libya. Section 901(j)(1) imposes restrictions in the case of income and taxes attributable to certain countries. Pursuant to section 901(j)(5), the President may waive the restrictions of section 901(j)(1) if the President determines that such a waiver is in the national interest of the United States and will expand trade and investment opportunities for U.S. companies in such country, and the President reports to Congress his intention to grant the waiver and the reason for the determination. These statutory conditions were fulfilled by Presidential Determination 2004-48 and the report to Congress issued on October 6, 2004. See 69 FR 61703.

SUPPLEMENTARY INFORMATION: The text of Presidential Determination 2005-12 is printed below.

Dated: January 3, 2005.
Richard S. Carro,
Senior Advisor to the General Counsel (Regulatory Affairs).

Text of Presidential Determination No. 2005-12

The White House,

Washington, DC,

December 10, 2004.

Presidential Determination No. 2005-12.

Memorandum for the Secretary of the Treasury

Subject: Presidential Determination To Waive the Application of Section 901(j) of the Internal Revenue Code With Respect to Libya

By virtue of the authority vested in me by the Constitution and the laws of the United States, including section 901(j)(5) of the Internal Revenue Code (the “Code”), I hereby waive the application of section 901(j)(1) of the Code with respect to Libya.

I hereby authorize and direct you to arrange for publication of this determination in the Federal Register.

George W. Bush

[FR Doc. 05-335 Filed 1-6-05; 8:45 am]

BILLING CODE 4810-25-U